DEPARTMENT OF ENERGY

[OE Docket No. EA-405-A]

Application To Export Electric Energy; Del Norte Energy LLC

AGENCY: Office of Electricity, Department of Energy.

ACTION: Notice of application.

SUMMARY: Del Norte Energy LLC (Applicant or DNE) has applied to renew its authorization to transmit electric energy from the United States to Mexico pursuant to the Federal Power Act.

DATES: Comments, protests, or motions to intervene must be submitted on or before April 13, 2020.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On April 21, 2015, DOE issued Order EA-405, which authorized DNE to transmit electric energy from the United States to Mexico as a power marketer for a five-year term using existing international transmission facilities appropriate for open access. The authorization expires on April 21, 2020. On March 3, 2020, DNE filed an application (Application or App.) with DOE for renewal of the export authorization contained in Order No. EA-405. DNE states that it “is a Delaware limited liability company with its principal place of business in Delaware” and is “wholly owned by individual investors” App. at 2. The Applicant further states that it “will purchase the power to be exported from wholesale generators, electric utilities, and power marketing agencies.” And that it “will operate as a power marketer and broker and buy electric power at wholesale in the United States for sale only in Mexico.” Id. DNE contends that its proposed exports “would not impede or tend to impede the coordinated use of transmission facilities within the meaning of [section 202(e) of the Federal Power Act],” and that its “proposed exports will not impair or tend to impede the sufficiency of electric supplies in the United States or the regional coordination of electric utility planning or operations.” Id. at 3. The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Two (2) copies of such comments, protests, or motions to intervene should be sent to the address provided above on or before the date listed above.

Comments and other filings concerning DNE's application to export electric energy to Mexico should be clearly marked with OE Docket No. EA-405-A. Additional copies are to be provided directly to Jorge Astorga, Del Norte Energy LLC, 4023 Kennett Pike 50027, Wilmington, DE 19807.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, for public inspection and copying at the address provided above, by accessing the program website at http://energy.gov/node/11845, or by emailing Matthew Aronoff at matthew.aronoff@hq.doe.gov.

Signed in Washington, DC, on March 9, 2020.
Christopher Lawrence,
Management and Program Analyst, Transmission Permitting and Technical Assistance, Office of Electricity.

[FR Doc. 2020-05167 Filed 3-12-20; 8:45 am]

BILLING CODE 6450-01-P